DEPARTMENT OF ENERGY

Federal Energy Regulatory Commission

[Project No. 13717-000]

Copper Valley Electric Association, Inc.; Notice of Preliminary Permit Application Accepted for Filing and Soliciting Comments, Motions To Intervene, and Competing Applications

July 15, 2010.

On April 19, 2010, Copper Valley Electric Association, Inc. filed an application for a preliminary permit, pursuant to section 4(f) of the Federal Power Act, proposing to study the feasibility of the Silver Lake Hydroelectric Project, located on Silver Lake and Duck River, in the Valdez-Cordova Census Area, Alaska. The sole purpose of a preliminary permit, if issued, is to grant the permit holder priority to file a license application during the permit term. A preliminary permit does not authorize the permit holder to perform any land-disturbing activities or otherwise enter upon lands or waters owned by others without the owners' express permission.

The proposed project would consist of the following: (1) A 400- to 600-foot-long, 100- to 125-foot-high roller-compacted concrete dam constructed at the outfall of Silver Lake to Duck River; (2) Silver Lake, with a surface area of 1,678 acres and a storage capacity of 165,200 acre-feet at elevation 425 feet mean sea level (msl) ¹; (3) a 9-foot-diameter, 6,000-foot-long buried steel penstock; (4) a powerhouse containing three Francis turbine/generating units having a total installed capacity of 15 megawatts; (5) an open-channel tailrace; (6) an ecological return flow facility to support resident species within the bypassed reach of the Duck River; (7) a 50-foot-wide, 140-foot-long switchyard, with generation stepped down at the switchyard to serve local requirements; (8) approximately 4.5 miles of new roads to access the dam and powerhouse; (9) a 100-foot-long dock bulkhead with a 20-foot-wide, 30-foot-long seaplane/floatplane ramp; (10) a 300-foot-long, 150-foot-wide housing structure for plant operators; (11) a 40-foot-wide, 100-foot-long maintenance shop; and (12) appurtenant facilities. The proposed Silver Lake Hydroelectric Project would have an average annual generation of 44.8 gigawatt-hours.

¹ Currently, Silver Lake has a surface area of 978 acres at 306 feet msl. The new dam will raise the surface elevation of Silver Lake to 425 feet msl, which will inundate about 700 acres (as calculated by Staff) of tribal land owned by the Chugach Alaska Corporation (Source: Permit Application filed April 19, 2010).

Applicant Contact: Robert A. Wilkinson, Copper Valley Electric Association, Inc., P.O. Box 45, Mile 187 Glenn Highway, Glennallen, Alaska 99588-0045; phone: (907) 822-3171.

FERC Contact: Jennifer Harper, 202-502-6136.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling”link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13717-000) in the docket number field to access the document. For assistance, contact FERC Online Support.

Kimberly D. Bose,
Secretary.

[FR Doc. 2010-17882 Filed 7-21-10; 8:45 am]

BILLING CODE 6717-01-P